DEPARTMENT OF COMMERCE

International Trade Administration

[A-351-832]

Notice of Preliminary Determination of Sales at Less Than Fair Value and Postponement of Final Determination: Carbon and Certain Alloy Steel Wire Rod from Brazil; Correction

AGENCY: Import Administration, International Trade Administration, Department of Commerce.

EFFECTIVE DATE: May 24, 2002.

SUMMARY: The notice appearing in 67 FR 18586, on Tuesday, April 16, 2002, should be disregarded because it duplicates the notice appearing in 67 FR 18165, on Monday, April 15, 2002. Therefore, the effective date of the preliminary determination is April 15, 2002.

FOR FURTHER INFORMATION CONTACT: Vicki Schepker or Christopher Smith, at (202) 482-1756 or (202) 482-1442, respectively; AD/CVD Enforcement Group II Office 5, Import Administration, Room 1870, International Trade Administration, U.S. Department of Commerce, 14th Street and Constitution Avenue, NW, Washington, DC 20230.

Dated: May 20, 2002
Bernard T. Carreau,
Deputy Assistant Secretary for Group II, Import Administration.

[FR Doc. 02-13150 Filed 5-23-02; 8:45 am]

BILLING CODE 3510-DS-S